Title 3—

The President

Proclamation 9946 of October 8, 2019

Leif Erikson Day, 2019

By the President of the United States of America

A Proclamation

On Leif Erikson Day, we honor the spirit of exploration, courage, and faith that led this legendary Viking and his crew to sail across the Atlantic in search of new lands and opportunities more than a thousand years ago. His dream—to venture beyond the known horizon and redefine the impossible—still defines and inspires Americans today.

Leif Erikson's undaunted life of exploration began in Iceland—the same location where the Apollo 11 crew trained for its historic journey to the surface of the Moon. The bold spirit that propelled Erikson and his fellow mariners across an unknown ocean is the same spirit that carried our brave astronauts into space 50 years ago, and it is what continues to fuel our desire to unlock the mysteries of the universe and pursue the exploration of Mars.

Americans share strong bonds with the homelands of the Vikings. Millions of Americans proudly trace their ancestry to Denmark, Finland, Iceland, Norway, and Sweden. All of these nations help keep our transatlantic community strong. They stand shoulder to shoulder with us as North Atlantic Treaty Organization Allies or partners to enhance regional peace and stability. And as members of the Arctic Council, we work together to promote sustainable growth, scientific research, and environmental protection in the High North while maintaining the region as an area of low tensions.

Nordic Americans contribute each day to the rich tapestry of our country by their self-reliance, drive, spirit of adventure, and cultural traditions. On this day, we pay tribute to the remarkable achievements of Leif Erikson, and we celebrate the daring dreams, big vision, and passion for discovery of all people of Scandinavian heritage.

To honor Leif Erikson, son of Iceland and grandson of Norway, and to celebrate our Nordic-American heritage, the Congress, by joint resolution (Public Law 88-566) approved on September 2, 1964, has authorized the President of the United States to proclaim October 9 of each year as “Leif Erikson Day.”

NOW, THEREFORE, I, DONALD J. TRUMP, President of the United States of America, by virtue of the authority vested in me by the Constitution and the laws of the United States, do hereby proclaim October 9, 2019, as Leif Erikson Day. I call upon all Americans to celebrate the achievements and contributions of Nordic Americans to our Nation with appropriate ceremonies, activities, and programs.

IN WITNESS WHEREOF, I have hereunto set my hand this eighth day of October, in the year of our Lord two thousand nineteen, and of the Independence of the United States of America the two hundred and forty-fourth.

[FR Doc. 2019-22444

Filed 10-10-19; 8:45 am]

Billing code 3295-F0-P